DEPARTMENT OF VETERANS AFFAIRS

Advisory Committee: National Academic Affiliations Council; Notice of Meeting

The Department of Veterans Affairs (VA) gives notice under Public Law 92-463 (Federal Advisory Committee Act) that the inaugural meeting of the National Academic Affiliations Council will be held on February 8-9, 2012, in the Executive Room at the Omni Shoreham Hotel, 2500 Calvert Street NW., Washington, DC. The sessions will begin at 8 a.m. each day and adjourn at 5 p.m. on February 8 and at 12:30 on February 9.

The purpose of the Council is to advise the Secretary on matters affecting partnerships between VA and its academic affiliates.

On February 8, the Council will receive briefings from the Veterans Health Administration (VHA) Office of Academic Affiliations on the status of the 2009 recommendations of the Blue Ribbon Panel on VA Medical School Affiliations and VHA's present educational portfolio and recent educational innovations; and from the VA Office of General Counsel on government ethics from the VA Office of General Counsel. On February 9, the Council will hear from the VA Chief of Staff and receive certificates of appointments; receive briefings on VHA facility governance and implementation of educational programs; and hold discussions on the future of VHA's educational programs. The Council will receive public comments from 12 p.m. to 12:30 p.m.

Interested persons may attend and present oral statements to the Council. A sign-in sheet for those who want to give comments will be available at the meeting. Individuals who speak are invited to submit a 1-2 page summary of their comments at the time of the meeting for inclusion in the official meeting record. Oral presentations will be limited to five minutes or less, depending on the number of participants. Interested parties may also provide written comments for review by the Council prior to the meeting or at any time, by email to Gloria.Holland@va.gov or by mail to Gloria J. Holland, Ph.D., Special Assistant for Policy and Planning, Office of Academic Affiliations (10A2D), 810 Vermont Avenue NW., Washington, DC 20420. Any member of the public wishing to attend or seeking additional information should contact Dr. Holland via email or by phone at (202) 461-9490.

Dated: January 24, 2012.
By Direction of the Secretary.
Vivian Drake,
Committee Management Officer.

[FR Doc. 2012-1797 Filed 1-26-12; 8:45 am]

BILLING CODE P